DEPARTMENT OF STATE

[Public Notice: 6986]

Biennial Review of the Progress of Cooperation Under the United States-Singapore Memorandum of Intent on Cooperation in Environmental Matters and Suggestions for 2011-2012 U.S.-Singapore Plan of Action for Environmental Cooperation

ACTION: Notice of a meeting for the Biennial Review of the progress of cooperation under the U.S.-Singapore Memorandum of Intent on Cooperation on Environmental Matters and solicitation of suggestions for the 2011-2012 U.S.-Singapore Plan of Action for Environmental Cooperation.

SUMMARY: The Department of State is providing notice that the United States and Singapore intend to hold a Biennial Review of the progress of cooperation under the U.S.-Singapore Memorandum of Intent on Cooperation on Environmental Matters (MOI) in Washington, DC, on May 13, 2010. This biennial meeting to review the status of cooperation is consistent with the intent of the two Governments as set forth in Section 3 of the MOI. A public information session will be held on May 13th, at 1:30 p.m., in room 1105 at the U.S. Department of State, 2201 C Street, NW., Washington, DC 20520. If you would like to attend the session, please send the following information to Jacqueline Tront at the fax number or e-mail address listed below under the heading ADDRESSES: (1) Your name, (2) your date of birth, and (3) the number of a valid identification card that a government has issued to you.

The purpose of the Biennial Review is detailed below under SUPPLEMENTARY INFORMATION.

The meeting agenda will include an overview of progress in implementing selected projects under the 2008-2010 Plan of Action pursuant to the MOI, and the presentation of a new MOI Plan of Action. The Department of State invites interested organizations and members of the public to submit written comments or suggestions regarding agenda items and to attend the public session.

Pursuant to the MOI, the United States and Singapore will discuss and agree upon the 2011-2012 Plan of Action for Environmental Cooperation. The Department of State is soliciting ideas and suggestions for environmental cooperation projects between the United States and Singapore. The MOI outlines broad areas for environmental cooperation with the objective of “identify[ing] environmental issues of mutual interest to the two governments, and establishing a mechanism through which the two governments can pursue cooperative environmental efforts in those areas.” In addition, in the Environment Chapter of the U.S.-Singapore Free Trade Agreement (FTA) (Chapter 18), “[t]he Parties recognize the importance of strengthening capacity to protect the environment and to promote sustainable development in concert with strengthening of trade and investment relations between them. The Parties shall, as appropriate, pursue cooperative environmental activities, including those pertinent to trade and investment and to strengthening environmental performance * * * under a Memorandum of Intent on Cooperation in Environmental Matters. During 2011-2012, the United States and Singapore intend to continue to build upon the cooperative work initiated in the 2008-2010 Plan of Action, and to continue to follow up on the themes reflected in the Environment Chapter of the FTA.

The Department of State invites government agencies and the public, including NGOs, educational institutions, private sector enterprises and other interested persons, to submit written comments or suggestions regarding items for the Plan of Action and implementation of environmental cooperation activities. In preparing such comments or suggestions, we encourage submitters to refer to: (1) The U.S.-Singapore MOI, (2) the U.S.-Singapore 2008-2010 Plan of Action on Environmental Cooperation, (3) the U.S.-Singapore FTA Environment Chapter, and (4) the Environmental Review of the FTA. (Documents are available at: http://www.state.gov/g/oes/env/trade/singapore/index.htm).

DATES: The meeting is to be held: May 13, 2010, 1:30 p.m. to 4:45 p.m., Washington, DC.

To be assured of timely consideration, comments are requested no later than May 10, 2010.

ADDRESSES: Written comments or suggestions should be submitted to: Jacqueline Tront, Office of Environmental Policy, Bureau of Oceans, International Environmental, and Scientific Affairs, U.S. Department of State, by electronic mail at trontjm@state.gov with the subject line “U.S.-Singapore Biennial Review” or by fax to (202) 647-5947. If you have access to the Internet you can view this Notice and make comments by going to http://www.regulations.gov/search/Regs/home.html#home.

FOR FURTHER INFORMATION, CONTACT: Jacqueline Tront, Telephone (202) 647-4750.

SUPPLEMENTARY INFORMATION: In Section 3 of the U.S.-Singapore MOI, the Governments stated that they plan to meet biennially to review the status of cooperation under the MOI and to develop and update, as appropriate, a Plan of Action for Environmental Cooperation. The Plan of Action is a tool which identifies and outlines agreed upon environmental cooperation priorities, on-going efforts and possibilities for future cooperation. The United States-Singapore FTA entered into force on January 1, 2004. Chapter 18 of the FTA committed the Parties to entering into a Memorandum of Intent on Cooperation in Environmental Matters (MOI) and to pursue cooperative environmental activities, including those pertinent to trade and investment and to strengthening environmental performance, such as information reporting, enforcement capacity, and environmental management systems. The last Biennial Review was held on October 10, 2008 in Singapore. The Parties discussed implementation of the 2005-2007 Plan of Action, and elaboration of the 2008-2010 Plan of Action. Regional environmental initiatives, “green” technologies, and reducing air and water pollution were high on the list of future activities discussed during the 2008 Biennial review and TRAFFIC described its work in the Region to combat illegal wildlife trafficking and logging.

At the upcoming Biennial Review in Washington, DC on May 13, 2010, the Parties will receive reports on progress of implementing the 2008-2010 Plan of Action and review and approve the 2011-2012 Plan of Action. The Parties will also consider recommendations for future bilateral cooperation during the Biennial Review.

The mutually identified goals of cooperation under the 2008 to 2010 Plan of Action are: (1) Encouraging the bilateral and regional use of innovative and climate-friendly environmental technology and pollution management techniques; (2) participating in regional initiatives on environmentally sustainable cities and sustainable management and trade in sustainably managed resources; and (3) further improving capacity to implement and enforce environmental laws, including further enhancing efforts of countries in the region to combat illegal trade in environmentally sensitive goods through bilateral and regional cooperative activities. We anticipate continuing to work to achieve these goals in the 2011 to 2012 plan and are seeking ideas and suggestions for activities that can be included in the Plan of Action consistent with them.

Ongoing environmental cooperation work includes: Participation in regional workshops to combat illegal trade in environmentally sensitive goods, technical exchanges on water systems and water pollution management, participation in regional initiatives on sustainable management and trade in sustainably managed resources, promotion of energy efficiency projects and partnerships, cooperating through the Pacific Ports Initiative and combining efforts under the Sustainable Cities Program. The listed activities and additional cooperative activities were outlined in previous Environmental Cooperation Action Plans and discussed during previous Biennial Review meetings. Additional information can be found on the website listed above.

In carrying out this cooperative work, the United States and Singapore intend to explore the development of partnerships with private sector and civil society organizations, to build upon and complement ongoing bilateral cooperative work in other fora, and to explore opportunities for mutual collaboration in these priority areas with other countries in the region.

Disclaimer: This Public Notice is a request for comments and suggestions, and is not a request for applications. No granting or money is directly associated with this request for suggestions for the 2011-2012 Plan of Action. There is no expectation of resources or funding associated with any comments or suggestions provided for the 2011-2012 Plan of Action.

Dated: April 23, 2010.
Willem H. Brakel,
Director, Office of Environmental Policy, Department of State.

[FR Doc. 2010-10724 Filed 5-5-10; 8:45 am]

BILLING CODE 4710-09-P